DEPARTMENT OF ENERGY

Public Scoping Meeting for the Programmatic Environmental Impact Statement on the Disposition of Scrap Metals

AGENCY: Department of Energy.

ACTION: Notice of change of location of meeting.

SUMMARY: The Department of Energy (DOE) announces a change of location from New York City, NY to Philadelphia, PA for a public scoping meeting on the programmatic environmental impact statement (PEIS) that DOE is preparing on the policy alternatives for the disposition of DOE scrap metals that may have residual surface radioactivity.

DATES: On October 18, 2001, DOE will conduct a public scoping meeting in Philadelphia, PA. All meeting dates, times, and locations announced in the September 6, 2001, Federal Register (66 FR 46613) remain the same except that DOE will not conduct a public scoping meeting in New York, NY. The scoping period ends November 9, 2001. DOE invites Federal agencies, Native American tribes, state and local governments, and members of the general public to comment on the scope of this PEIS. DOE will consider all comments received by the close of the scoping period and will consider comments received after that date to the extent practicable. The Philadelphia, PA public scoping meeting will be at the following location:

Meeting: Philadelphia Convention Center, 1101 Arch Street, Philadelphia, PA 19107; October 18, 2001, 2-5 p.m., 8-10 p.m.

ADDRESSES: Comments on the scope of the PEIS may be mailed to the address below or sent by facsimile or electronic mail. Written comments may be mailed to the following address. Kenneth G. Picha, Jr., Office of Technical Program Integration, EM-22, ATTN: Metals Disposition PEIS, Office of Environmental Management, U.S. Department of Energy, 1000 Independence Avenue, SW, Washington, DC. 20585-0113, Telephone: (301)-903-7199.

Otherwise, send comments via facsimile to Metals Disposition PEIS at 301-903-9770 or send electronic mail to Metals.Disposition.PEIS@em.doe.gov or the Web site at www.em.doe.gov/smpeis.

FOR FURTHER INFORMATION CONTACT: To request further information about this PEIS, the public scoping meetings, or to be placed on the PEIS distribution list, use any of the methods listed under ADDRESSES above. For background documents in hard copy related to this PEIS contact the DOE Center for Environmental Management Information at 800-736-3282. For general information concerning the DOE National Environmental Policy Act (NEPA) process, contact: Carol Borgstrom, Director, Office of NEPA Policy and Compliance (EH-42), U.S. Department of Energy, 1000 Independence Avenue, SW, Washington, D.C. 20585-0119, Telephone: 202-586-4600, Voice Mail: 800-472-2756, Facsimile: 202-586-7031.

Additional NEPA information is also available on the DOE website: http//tis.eh.doe.gov/nepa/

SUPPLEMENTARY INFORMATION: DOE generates surplus and scrap material during the normal course of activities, and attempts to recycle as much as possible consistent with common industrial practice. DOE is also guided by several Executive Orders that provide direction to Federal Agencies on recycling practices to avoid unnecessary energy consumption and use of raw materials for the development of new products. Some of this material consists of scrap metal that may contain residual surface radioactivity.

On July 12, 2001, DOE issued a Notice of Intent (66 FR 36562) to prepare a PEIS on the DOE policy alternatives for the disposition of scrap metals that may contain residual surface radioactivity. On September 6, 2001, DOE issued a Notice in the Federal Register (66 FR 46613) extending the public scoping period and announcing additional public scoping meetings for the PEIS, including a meeting in New York City. The Department now believes, however, that given the recent terrorist attack in lower Manhattan, this subject is inappropriate for a public meeting in Midtown Manhattan at this time. DOE is instead scheduling a meeting in Philadelphia, PA, as discussed above under DATES. The remaining public scoping meetings announced in the September 6, Notice are as follows:

Meeting: Ken Edwards Community Center,1527 Fourth Street, Santa Monica, CA 90401, October 8, 2001, 8-10 p.m.

Meeting: Simi Valley City Hall, 2929 Tapo Canyon Road, Simi Valley, CA 93063; October 9, 2001, 8-10 p.m.

Meeting: Zuhrah Shrine Center, 2540 Park Avenue, Minneapolis, MN 55404; October 16, 2001, 2-5 p.m. 8-10 p.m.

At the scoping meetings, the public will have the opportunity to ask questions and to comment orally or in writing on the scope of the PEIS, including the alternatives and issues that DOE should consider. Also, at these meetings, DOE plans to provide background information on the proposed scope of the PEIS, issues and impacts proposed to be evaluated, and the PEIS preparation schedule.

DOE has conducted public scoping meetings on the PEIS in the following locations: North Augusta, SC; Oak Ridge, TN; Oakland, CA; Richland, WA; Cincinnati, OH; and, Washington, DC. The public scoping period originally was to continue until September 10, 2001. However, in response to public comments and to ensure that the public has ample opportunity to provide comments, DOE extended the public scoping period by 60 days and scheduled additional meetings as specified above. The schedule for completion of the Draft PEIS is March, 2002, and for the Final PEIS is August, 2002. Further information on this PEIS is contained in the July 12, 2001, Notice of Intent.

Issued in Washington, D.C., on September 26, 2001.
Steven V. Cary,
Acting Assistant Secretary, Office of Environment, Safety and Health.

[FR Doc. 01-24607 Filed 10-1-01; 8:45 am]

BILLING CODE 6450-01-P